DEPARTMENT OF DEFENSE

Office of the Secretary

[Docket ID: DoD-2011-OS-0126]

Proposed Collection; Comment Request

AGENCY: Defense Security Service, DoD.

ACTION: Notice.

SUMMARY: In compliance with the Paperwork Reduction Act of 1995, the Defense Security Service announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 14, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Security Service, OCIO, Russell-Knox Building, 27130 Telegraph Road, Quantico, VA 22134-2253, or call Defense Security Service at (571) 305-6445.

SUPPLEMENTARY INFORMATION:

Title; Associated Form; and OMB Number: “Defense Security Service Industrial Security Review Data” and “Defense Security Service Industrial Security Facility Clearance Survey Data,” OMB Control Number 0704-0427.

Needs and Uses: The information collection requirement is necessary to assist in determining whether a contractor is eligible to establish its facility security clearance and/or retain its participation in the National Industrial Security Program (NISP). It is also the basis for verifying whether contractors are appropriately implementing NISP security requirements. These requirements are necessary in order to preserve and maintain the security of the United States through establishing standards to prevent the improper disclosure of classified information.

In accordance with Department of Defense (DoD), 5220.22-R, “Industrial Security Regulation,” DSS is required to maintain a record of the results of surveys and security reviews. Documentation for each survey and/or security review will be compiled addressing areas applicable to the contractor's security program. Portions of the data collected will be stored in databases. All data collected will be handled and marked “For Official Use Only.”

Burden Information for “Industrial Security Review Data”

Affected Public: Business or other for profit; Not-for-profit institutions.

Annual Burden Hours: 32,606.

Possessors of Classified: 20,818.

Non-Possessors of Classified: 11,788.

Number of Respondents: 9,822.

Possessors of Classified: 3,928.

Non-Possessors of Classified: 5,894.

Responses per Respondent: 1.

Annual Responses: 9,822.

Possessors of Classified: 3,928.

Non-Possessors of Classified: 5,894.

Average Burden per Response: Varies.

Possessors of Classified: 5.3 hours.

Non-Possessors of Classified: 2 hours.

Frequency: On occasion.

Burden Information for “Facility Security Clearance Survey Data”

Affected Public: Business or other for profit; Not-for-profit institutions.

Annual Burden Hours: 5,664.

Number of Respondents: 2,832.

Responses per Respondent: 1.

Annual Responses: 2,832.

Average Burden per Response: 2 hours.

Frequency: On occasion.

Total Burden Information

Annual Burden Hours: 38,270.

Number of Respondents: 12.654.

DSS is the office of record for the maintenance of information pertaining to contractor facility clearance records and industrial security information regarding cleared contractors under its cognizance. To the extent possible, information required as part of the survey or security review is obtained as a result of observation by the representative of the Cognizant Security Agency or its designated Cognizant Security Office. Some of the information may be obtained based on conferences with Key Management Personnel and/or other employees of the company. The information is used to respond to all inquiries regarding the facility clearance status and classified information storage capability of cleared contractors. It is also used to assess and/or advise Government Contracting Activities regarding any particular contractor's continued ability to protect classified information.

Dated: October 5, 2015.
Aaron Siegel,
Alternate OSD Federal Register Liaison Officer, Department of Defense.

[FR Doc. 2015-25902 Filed 10-9-15; 8:45 am]

BILLING CODE 5001-06-P